DEPARTMENT OF ENERGY

Federal Energy Regulatory Commission

[Docket No. EL02-119-000]

The Kroger Co., Complainant v. Dynegy Power Marketing, Inc., Respondent; Notice of Complaint

August 15, 2002.

Take notice that on August 14, 2002, The Kroger Co. tendered for filing with the Federal Energy Regulatory Commission (Commission) a complaint against Dynegy Power Marketing, Inc. (Dynegy) seeking Commission action: to declare the prices contained in four wholesale confirmations executed in Spring 2001 as unjust and unreasonable and contrary to the public interest; to set just and reasonable prices based on current market conditions; to establish a refund effective date within 60 days of filing of the complaint; and to initiate hearing procedures.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before September 13, 2002. This filing is available for review at the Commission in the Public Reference Room or may be viewed on the Commission's Web site at http://www.ferc.gov using the “FERRIS” link. Enter the docket number excluding the last three digits in the docket number field to access the document. For Assistance, call (202)502-8222 or for TTY, (202) 208-1659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-21269 Filed 8-20-02; 8:45 am]

BILLING CODE 6717-01-P